DEPARTMENT OF THE INTERIOR

Bureau of Land Management

[NV-055-5853-EU]

Notice of Realty Actions: Competitive Sale of Public Lands in Clark County, NV; Termination of Recreation and Public Purposes Classification and Segregation; Withdrawal of the Formerly Classified Lands by the Southern Nevada Public Land Management Act

AGENCY: Bureau of Land Management, Interior.

ACTION: Notice.

SUMMARY: The Bureau of Land Management (BLM) proposes to sell federally owned parcels of land in Clark County, Nevada, aggregating approximately 2,532.01 acres. All sales will be conducted on June 2, 2004, in accordance with competitive bidding procedures. The BLM also is terminating the R&PP classification of other lands in Clark County that are withdrawn by the Southern Nevada Public Land Management Act.

DATES: Comments regarding the proposed sale must be received by BLM on or before May 21, 2004.

Sealed bids must be received by BLM not later than 4:30 p.m., PDT, May 26, 2004.

All parcels of land proposed for sale are to be put up for purchase and sale, at public auction, beginning at 10 a.m., PDT, June 2, 2004. Registration for oral bidding will begin at 8 a.m., PDT, June 2, 2004. The public auction will begin at 10 a.m., PDT, June 2, 2004.

Other deadline dates for the receipt of payments, and arranging for certain payments to be made by electronic transfer, are specified in the proposed terms and conditions of sale, as stated herein.

ADDRESSES: Comments regarding the proposed sale, as well as sealed bids to be submitted to BLM, should be addressed to:

Field Manager, Las Vegas Field Office, Bureau of Land Management, 4701 N. Torrey Pines Drive, Las Vegas, Nevada 89130.

More detailed information regarding the proposed sale and the lands involved may be reviewed during normal business hours (7:30 a.m. to 4:30 p.m.) at the Las Vegas Field Office (LVFO).

The address for oral bidding registration, and for where the public auction will be held, is: Sam's Town Hotel and Casino, 5111 Boulder Highway, Las Vegas, Nevada.

The auction will take place at Sam's Town Live, located within the Sam's Town Hotel and Casino.

FOR FURTHER INFORMATION CONTACT: You may contact Judy Fry, Program Lead, SALES at (702) 515-5081 or by email at jfry@nv.blm.gov. You may also call (702) 515-5000 and ask to have your call directed to a member of the Sales Team.

SUPPLEMENTARY INFORMATION: The following lands have been authorized and designated for disposal under the Southern Nevada Public Land Management Act of 1998 (112 Stat. 2343), as amended by the Clark County Conservation of Public Land and Natural Resources Act of 2002 (116 Stat. 1994), (hereinafter “SNPLMA”). These lands are proposed to be put up for purchase and sale by competitive auction on June 2, 2004, at an oral auction to be held in accordance with the applicable provisions of Sections 203 and Section 209 of the Federal Land Policy and Management Act of 1976 (FLPMA) (43 U.S.C. 1713 and 1719), respectively, and its implementing regulations, 43 CFR Part 2710, at not less than the fair market value (FMV) of each parcel, as determined by the authorized officer after an appraisal.

Lands Proposed for Sale

Mount Diablo Meridian, Nevada

T. 19 S, R. 59 E.,

Sec. 2, W½NE¼SE¼NE¼, E½NW¼SE¼NE¼;

Sec. 25, SE¼SE¼NW¼.

T. 19 S, R. 60 E.,

Sec. 18, Lots 13 and 14, E½SE¼SW¼NE¼;

Sec. 29, NE¼NE¼SW¼NW¼, SE¼NE¼SW¼NW¼;

Sec. 31, NE¼NE¼NE¼NW¼, NE¼NE¼SE¼SW¼, SE¼NE¼SE¼SW¼, NW¼SE¼SE¼SW¼, SW¼SE¼SE¼SW¼, NE¼SW¼SE¼SE¼, SE¼SW¼SE¼SE¼;

Sec. 32, NE¼NW¼SE¼NW¼, NW¼NW¼SE¼NW¼.

T. 20 S, R. 60 E.,

Sec. 6, Lots 40 through 49, SE¼NW¼SW¼NE¼, NE¼SE¼SE¼NW¼, SE¼SE¼SE¼NW¼;

Sec. 22, N½NE¼NW¼SE¼;

Sec. 33, Lots 60 and 61.

T. 21 S., R. 60 E.,

Sec. 3, Lots 88, 89 and 90;

Sec. 24, S½SE¼;

Sec. 28, N½NE¼SW¼SE¼SW¼, S½NE¼SW¼SE¼SW¼, SE¼SW¼SE¼SW¼, NW¼SE¼SE¼SW¼, SW¼SE¼SE¼SW¼.

T. 22 S, R. 60 E.,

Sec. 15, NW¼NW¼NE¼SW¼, E½NE¼NW¼SE¼SW¼, NE¼NE¼NE¼SE¼;

Sec. 16, W½NW¼NE¼NE¼SW¼, S½NE¼SE¼SW¼SE¼, W½NE¼NW¼SE¼SE¼, W½NW¼NW¼SE¼SE¼;

Sec. 17, E½SE¼SW¼SE¼, W½SW¼SW¼SE¼;

Sec. 21, NW¼NE¼SE¼NE¼, NW¼NE¼SW¼NW¼, N½NW¼SW¼NW¼, NW¼NE¼SE¼NW¼, NE¼NW¼SE¼NW¼;

Sec. 22, E½NE¼SE¼SW¼SW¼;

Sec. 23, SW¼NE¼SE¼NE¼;

Sec. 24, NW¼NE¼NE¼NW¼, SE¼SW¼SW¼NW¼, SW¼SE¼SW¼NW¼, NW¼SW¼SW¼NE¼, SW¼SW¼SW¼NE¼, NW¼SE¼SW¼NE¼, SE¼SE¼SW¼NE¼, NW¼SW¼SE¼NE¼;

Sec. 26, W½NW¼NW¼SW¼.

T. 22 S, R. 61 E.,

Sec. 28, Lots 37 and 48;

Sec. 29, NW¼SE¼SW¼SE¼;

Sec. 30, SW¼NW¼SE¼NE¼, W½NW¼SW¼SE¼NE¼;

Sec. 33, Lots 85 through 88.

T. 23 S, R. 61 E.,

Sec. 7, Lots 1 and 2, NE¼, E½NW¼, NE¼SE¼;

Sec. 11, S½SE¼NE¼SW¼, E½SE¼SW¼, S½S½NW¼SE¼, SW¼SE¼, W½W½SE¼SE¼;

Sec. 14, W½W½NE¼NE¼, SE¼SW¼NE¼NE¼, W½NE¼, W½E½SE¼NE¼, W½SE¼NE¼, E½E½NW¼, E½NE¼SW¼, NE¼SW¼NE¼SW¼, S½SW¼NE¼SW¼, NE¼NE¼SW¼SW¼, S½NE¼SW¼SW¼, SW¼NW¼SW¼SW¼, S½SW¼SW¼, SE¼SW¼, SE¼;

Sec. 15, SW¼NW¼NE¼SE¼, SW¼NE¼SE¼, SW¼SE¼NE¼SE¼, NE¼NE¼NW¼SE¼, S½NE¼NW¼SE¼, S½NW¼SE¼, S½SE¼;

Sec. 22, E½, SW¼;

Sec. 23, All;

Sec. 24, SW¼NW¼NW¼NW¼, SW¼NW¼NW¼, SW¼SE¼NW¼NW¼, SE¼NE¼SW¼NW¼, W½E½SW¼NW¼, W½SW¼NW¼, E½SE¼SW¼NW¼, W½SW¼SE¼NW¼, W½E½SW¼, W½SW¼, W½NE¼SE¼SW¼, SE¼SE¼SW¼.

Consisting of 71 Parcels Containing 2,532.01 Acres, More or Less.

The proposed sale will include nine (9) parcels that have been identified for sale at previous auctions, but did not sell because either they did not receive any bids, or the sales were cancelled due to default. These nine (9) parcels, identified as N-75200, N-77032, N-77040, N-77054, N-77055, N-77057, N-77065, N-76385 and N-76400, contain 1,966.25 acres, more or less. The nine (9) resale parcels will be auctioned under the terms and conditions of this Notice of Realty Action (NORA).

If a parcel of land is sold, the locatable mineral interests therein will be sold simultaneously as part of the sale. The lands identified for sale have no known locatable mineral value. An offer to purchase any parcel at auction will constitute an application for conveyance of the locatable mineral interests. In conjunction with the final payment, the applicant will be required to pay a $50.00 non-refundable filing fee for processing the conveyance of the locatable mineral interests.

Terms and Conditions of Sale

The terms and conditions applicable to this sale are as follows:

All parcels are subject to the following:

1. All discretionary leaseable and saleable mineral deposits are reserved; but permittees, licensees, and lessees retain the right to prospect for, mine, and remove such minerals owned by the United States under applicable law and any regulations that the Secretary of the Interior may prescribe, including all necessary access and exit rights.

2. Rights-of-way are reserved for ditches and canals constructed by authority of the United States under the Act of August 30, 1890 (43 U.S.C. 945).

3. All parcels are subject to valid existing rights. Parcels may also be subject to applications received prior to publication of this Notice if processing the application would have no adverse affect on the federally approved Fair Market Value (FMV). Encumbrances of record, appearing in the BLM public files for the parcels proposed for sale, are available for review during business hours, 7:30 a.m. PDT to 4:30 p.m. PDT, Monday through Friday, at the BLM LVFO.

4. All parcels are subject to reservations for roads, public utilities and flood control purposes, both existing and proposed, in accordance with the local governing entities' Transportation Plans.

5. No warranty of any kind, express or implied, is given by the United States as to the title, physical condition or potential uses of the parcels of land proposed for sale; and the conveyance of any such parcel will not be on a contingency basis. However, to the extent required by law, all such parcels are subject to the requirements of section 120(h) of the Comprehensive Environmental Response Compensation and Liability Act, as amended (CERCLA) (42 U.S.C. 9620(h)).

6. All purchasers/patentees, by accepting a patent, agree to indemnify, defend, and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of federal, state, and local laws and regulations that are now or may in the future become, applicable to the real property; (2) Judgments, claims or demands of any kind assessed against the United States; (3) Costs, expenses, or damages of any kind incurred by the United States; (4) Other releases or threatened releases of solid or hazardous waste(s) and/or hazardous substances(s), as defined by federal or state environmental laws, off, on, into or under land, property and other interests of the United States; (5) Other activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with the parcels of land patented or otherwise conveyed by the United States, and may be enforced by the United States in a court of competent jurisdiction.

7. Maps delineating the individual proposed sale parcels are available for public review at the BLM LVFO. Current appraisals for each parcel will be available for public review at the LVFO on or about April 5, 2004.

8. (a) Bids may be received in sealed envelopes for all parcels (with the exception of N-75200 and N-77125), or orally for all parcels at auction. Because of the Memorial Day holiday, all sealed bids must be received at the BLM LVFO, no later than 4:30 p.m., PDT, May 26, 2004. Sealed bid envelopes must be marked on the lower front left corner with the BLM Serial Number for the parcel and the sale date. Bids must be for not less than the federally approved FMV and a separate bid must be submitted for each parcel.

8. (b) Each sealed bid shall be accompanied by a certified check, money order, bank draft, or cashier's check made payable to the order of the Bureau of Land Management, for not less than 10 percent or more than 30 percent of the amount bid. The highest qualified sealed bid for each parcel will become the starting bid at the oral auction. If no sealed bids are received, oral bidding will begin at the FMV, as determined by the authorized officer.

9. All parcels will be put up for competitive sale by oral auction beginning at 10 a.m., PDT, June 2, 2004, at Sam's Town Live located inside of Sam's Town Hotel and Casino, 5111 Boulder Highway, Las Vegas, Nevada. Sam's Town Live is located near the box office and close to the movie theatres within Sam's Town Hotel and Casino. Interested parties who will not be bidding are not required to register and may proceed directly to Sam's Town Live. If you are at the auction to conduct business with the high bidders or are there to observe the process, should seating become limited, you may be asked to relinquish your seat in order to provide seating for all bidders before the auction begins. We will try to provide an audio/visual transmission outside the hall for your convenience.

10. All oral bidders are required to register. Registration for oral bidding will begin at 8 a.m. PDT on the day of the sale and will end at 10 a.m. PDT. You may pre-register by mail or fax by completing the form located in the sale folder and also available at the BLM LVFO.

11. Prior to receiving a bidder number on the day of the sale, all registered bidders must submit a certified check, bank draft, or cashier's check in the amount of $10,000. The check must list as individual (and not joint) payees both the Bureau of Land Management and your name or company name separated by the word “or”. On the day of the sale, pre-registered bidders may go to the Express Registration Desk, present a Photo Identification Card, the required $10,000 check, and receive a bidder number. All other bidders must go to the standard Registration Line where additional information will be requested along with your Photo Identification Card and the required $10,000 check. Upon completion of registration you will be given a bidder number. If you are a successful bidder, the $10,000 will be applied to your required 20% deposit. For parcels N-75200 and N-77125, arrangements may be made for Electronic Fund Transfer (EFT) of the 20% deposit by notifying BLM no later than May 14, 2004 of your intent to use EFT.

12. If you purchase one or more parcels and default on any single parcel, the default will be against all of your parcels. BLM will retain your $10,000 and the sale of all parcels to you will be cancelled. Following the auction, checks will be returned to the unsuccessful bidders upon presentation of Photo Identification at the Registration Area.

13. The highest qualifying bid for any parcel, whether sealed or oral, will be declared the high bid. The apparent high bidder, if an oral bidder, must submit the full deposit amount by 4:30 p.m. PDT on the day of the sale in the form of cash, personal check, bank draft, cashiers check, money order or any combination thereof, made payable to the Bureau of Land Management, for not less than 20 percent of the amount of the successful bid. If not paid by close of the auction, funds must be delivered no later than 4:30 p.m. PDT the day of the sale to the BLM Collection Officers at Sam's Town Live.

14. The remainder of the full bid price, whether sealed or oral, must be paid within 180 calendar days of the competitive sale date in the form of a certified check, money order, bank draft, or cashier's check made payable to the Bureau of Land Management. Personal checks will no longer be accepted. Arrangements for Electronic Fund Transfer (EFT) to BLM for the balance which is due on or before November 29, 2004, should be made a minimum of two weeks prior to the date you wish to make payment. Failure to pay the full price within the 180 days will disqualify the apparent high bidder and cause the entire bid deposit to be forfeited to the BLM.

15. Parcels N-75200 and N-77125 will only be put up for sale at the oral auction. Sealed bids for these parcels will not be accepted. If these parcels are not sold at the oral auction, they will not be sold on the Online Internet Auction.

16. Oral bids will be considered only if received at the place of sale and made at least for the FMV as determined by the authorized officer. For parcels designated Serial Numbers N-75200 and N-77125 specifically, each prospective bidder will be required to present a certified check, postal money order, bank draft or cashier's check made payable to the order of (individually and not jointly) the Bureau of Land Management or (Insert your name or company name here.) for an amount of money which shall be no less than 20% of the federally approved FMV of the designated parcels, Serial Numbers N-75200 and N-77125, in order to be eligible to bid on each respective parcel. In order to bid on both designated parcels listed, a separate certified check, postal money order, bank draft or cashier's check for an amount of money which shall be no less than 20% of the federally approved FMV for each designated parcel will be required. The check(s) must list both the Bureau of Land Management and your name or company name separated by the word “or”.

17. Federal law requires bidders to be U.S. citizens 18 years of age or older; a corporation subject to the laws of any State or of the United States; a State, State Instrumentality, or political subdivision authorized to hold property, or an entity including, but not limited to, associations or partnerships capable of holding property or interests therein under the laws of the State of Nevada. Certification of qualification, including citizenship or corporation or partnership, must accompany the bid deposit.

18. In order to determine the value, through appraisal, of the parcels of land proposed to be sold, certain extraordinary assumptions may have been made of the attributes and limitations of the lands and potential effects of local regulations and policies on potential future land uses. Through publication of this NORA, the Bureau of Land Management gives notice that these assumptions may not be endorsed or approved by units of local government. It is the buyer's responsibility to be aware of all applicable local government policies, laws, and regulations that would affect the subject lands, including any required dedication of lands for public uses. It is also the buyer's responsibility to be aware of existing or projected use of nearby properties. When conveyed out of federal ownership, the lands will be subject to any applicable reviews and approvals by the respective unit of local government for proposed future uses, and any such reviews and approvals will be the responsibility of the buyer. Any land lacking access from a public road or highway will be conveyed as such, and future access acquisition will be the responsibility of the buyer.

19. Additional Information: The BLM may accept or reject any or all offers, or withdraw any parcel of land or interest therein from sale, if, in the opinion of the authorized officer, consummation of the sale would not be fully consistent with FLPMA or other applicable laws or are determined to not be in the public interest.

If not sold, any parcel described above in this Notice may be identified for sale at a later date without further legal notice. Unsold parcels, with the exception of parcels N-75200 and N-77125, may be put up for sale on the Internet. Internet auction procedures will be available at http://www.auctionrp.com. If unsold on the Internet, parcels may be put up for sale at future auctions without additional legal notice. Upon publication of this notice and until the completion of the sale, the BLM is no longer accepting land use applications affecting any parcel identified for sale, including parcels that have been published in a previous Notice of Realty Action. However, land use applications may be considered after completion of the sale for parcels that are not sold through sealed, oral, or online Internet auction procedures provided the authorization will not adversely affect the marketability or value of the parcel.

Detailed information concerning the sale, including the reservations, sale procedures and conditions, CERCLA and other environmental documents is available for review at the BLM LVFO, or by calling (702) 515-5114. This information will also be available on the Internet at http://propertydisposal.gsa.gov. Click on NV for Nevada. It will also be available on the Internet at http://www.nv.blm.gov. Click on Southern Nevada Public Land Management Act and go to Land Sales.

Public Comments

The general public and interested parties may submit comments regarding the proposed sale and purchase to the Field Manager, BLM LVFO, up to 45 days after publication of this Notice in the Federal Register. Any adverse comments will be reviewed by the Nevada BLM State Director, who may sustain, vacate, or modify this realty action in whole or in part. In the absence of any adverse comments, this realty action will become the final determination of the Department of Interior. Any comments received during this process, as well as the commentor's name and address, will be available to the public in the administrative record and/or pursuant to a Freedom of Information Act request. You may indicate for the record that you do not wish to have your name and/or address made available to the public. Any determination by the Bureau of Land Management to release or withhold the names and/or addresses of those who comment will be made on a case-by-case basis. A request from a commentor to have their name and/or address withheld from public release will be honored to the extent permissible by law. Anonymous comments will not be accepted.

Termination of R&PP Classification—SNPLMA Withdrawal

Additionally, the following leases granted under the Recreation and Public Purposes (R&PP) Act, 43 U.S.C. 869 et seq.) have been relinquished: N-37113 (98FR5515), N-63113 (64FR50527-50528), and N-66077 (65FR3245-3246). This Notice officially terminates the R&PP classification and segregation of the parcels that were subject to these leases, but does not serve as an opening order because those parcels are within the disposal boundary set by Congress in SNPLMA. Pursuant to Section 4(c) of SNPLMA, these parcels are withdrawn, subject to valid existing rights, from entry and appropriation under the public land laws, location and entry under the mining laws and from operation under the mineral leasing and geothermal leasing laws, until such time as the Secretary of Interior terminates the withdrawal or the lands are patented. (Authority: 43 CFR 2711.1-2(d))

Dated: March 8, 2004.
Mark T Morse,
Field Manager.

[FR Doc. 04-7843 Filed 4-2-04; 10:21 am]

BILLING CODE 4310-HC-P